DEPARTMENT OF COMMERCE

National Telecommunications and Information Administration

Notice: Call for Applications, Commerce Spectrum Management Advisory Committee

AGENCY: National Telecommunications and Information Administration, U.S. Department of Commerce

ACTION: Notice and Request for Applications to Serve on Advisory Committee

SUMMARY: The National Telecommunications and Information Administration (NTIA) is seeking applications from persons interested in serving on the Commerce Spectrum Management Advisory Committee (CSMAC) for new two year terms to commence in December 2008. The CSMAC provides advice to the Assistant Secretary for Communications and Information and NTIA Administrator on spectrum management matters.

DATES: Nominations must be postmarked or electronically transmitted on or before September 2, 2008.

ADDRESSES: Persons wishing to submit applications should send their resume or curriculum vita and a statement summarizing the qualifications of the nominee and identifying any particular expertise or area of interest relevant to the CSMAC's work to the attention of Eric Stark, Designated Federal Officer, by mail to Office of the Assistant Secretary, National Telecommunications and Information Administration, 1401 Constitution Avenue N.W., Room 4725, Washington DC, 20230; by facsimile transmission to (202) 482-6173; or by electronic mail to spectrumadvisory@ntia.doc.gov.

FOR FURTHER INFORMATION CONTACT: Eric Stark at (202) 482-1880 or estark@ntia.doc.gov; or Joe Gattuso at (202) 482-0977 or jgattuso@ntia.doc.gov.

SUPPLEMENTARY INFORMATION: On November 29, 2004, the President issued a Memorandum for the Heads of Executive Departments and Agencies on the subject of “Spectrum Management for the 21st Century.”¹ Among other things, the Executive Memorandum directed the heads of the executive departments and agencies to implement the recommendations contained in two Commerce Department reports to the President identifying improvement in U.S. spectrum management.² The first recommendation in Report 2 called for the establishment of a federal advisory committee by the National Telecommunications and Information Administration (NTIA).³

¹ President's Memorandum on Improving Spectrum Management for the 21st Century, 49 Weekly Comp. Pres. Doc. 2875 (Nov. 29, 2004)(Executive Memorandum).

² See Department of Commerce, Spectrum Policy for the 21st Century - The President's Spectrum Policy Initiative: Report 1, Recommendations of the Federal Government Spectrum Task Force (June 2004); Department of Commerce, Spectrum Policy for the 21st Century - The President's Spectrum Policy Initiative: Report 2, Recommendations from State and Local Governments and Private Sector Responders (June 2004)(Report 2), available at http://www.ntia.doc.gov/reports/specpolini/presspecpolini_report2_06242004.pdf

³ “The National Telecommunications and Information Administration (NTIA) should establish the Department of Commerce Spectrum Management Advisory Committee, consistent with the Federal Advisory Committee Act [5 U.S.C. App.2] and the NTIA Organizations Act [47 U.S.C. § 904(b)]. Report 2 at ii, 14-15.”

Pursuant to the Executive Memorandum, the Secretary of Commerce established the CSMAC under the Federal Advisory Committee Act, 5 U.S.C. App. 2 and consistent with the National Telecommunications and Information Administration Act, 47 U.S.C. § 904(b). The CSMAC reports to the Assistant Secretary for Communications and Information. It advises the Assistant Secretary on needed reforms to domestic spectrum policies and management to enable the introduction of new spectrum-dependent technologies and services, including policy reforms for expediting the American public's access to broadband services, public safety, and digital television, as well as on long-range spectrum planning. The CSMAC functions solely as an advisory body in compliance with the FACA. The CSMAC's charter may be found a http://www.fido.gov/facadatabase/docs_charters%5C25109_Spectrum %20Charter%203-28-07_(2007-03-30-10-34-21).pdf. Additional information about the CSMAC and its activities may be found at http://www.ntia.doc.gov/advisory/spectrum.

Members of the CSMAC are experts in radio spectrum policy and do not represent any organization or interest. They serve on the CSMAC in the capacity of Special Government Employees. They do not receive compensation or reimbursement for travel or for per diem expenses.

The CSMAC's charter allows it to have up to 20 members. Current members of the CSMAC are not required to submit applications in order to be reappointed; however, reappointments are not automatic. Appointments are for two-year terms, subject to continuation of the CSMAC under its charter. NTIA intends to seek renewal of the current charter, which expires March 27, 2009.

The Secretary of Commerce will appoint members with a broad cross-section of points of views from the private and non-federal government sectors. The Department of Commerce seeks high level individuals with expertise in those sectors and interests on spectrum policy issues relevant to the CSMAC.

Nominations should include a resume or curriculum vita and should also include a statement summarizing the qualifications of the nominee and identifying any particular expertise or area of interest relevant to the CSMAC's work.

Dated: July 29, 2008.
Kathy D. Smith,
Chief Counsel, National Telecommunications and Information Administration.

[FR Doc. E8-17693 Filed 7-31-08; 8:45 am]

BILLING CODE 3510-60-S